DEPARTMENT OF ENERGY

Trespassing on DOE Property: Savannah River Site

AGENCY: Office of Environmental Management, Department of Energy.

ACTION: Notice of designation of Savannah River Site trespass boundaries.

SUMMARY: The Department of Energy (DOE) prohibits unauthorized entry and the unauthorized introduction of weapons or dangerous materials into and upon its nuclear sites. The Savannah River Site (SRS), a defense nuclear site comprising approximately 310 square miles of DOE-owned property in Aiken, Allendale and Barnwell Counties, South Carolina, is required to periodically survey and update its boundaries and publish those results in the Federal Register. The purpose of this notice is to provide the public with the most recent amendments to the SRS trespass boundary since its last publication in the Federal Register, and to add descriptions of publicly accessible land parcels and rights-of-way on DOE-owned property at the SRS.

DATES: This action is effective on May 18, 2023.

FOR FURTHER INFORMATION CONTACT:

Scott Boeke, U.S. Department of Energy, Savannah River Operations Office, ATTN: Office of Security, Safeguards & Emergency Services, P.O. Box A, Aiken, SC 29802, Email: scott.boeke@srs.gov, Telephone: 803-952-7385

Lucy Knowles, Chief Counsel, U.S. Department of Energy, Savannah River Operations Office, P.O. Box A, Aiken, SC 29802, Email: lucy.knowles@srs.gov, Telephone: 803-952-7618

SUPPLEMENTARY INFORMATION: The Department of Energy (DOE), successor agency to the Atomic Energy Commission, is authorized pursuant to the Atomic Energy Act of 1954, as amended, and the Energy Reorganization Act of 1974 as implemented by the Department of Energy Organization Act, to prohibit unauthorized entry and the unauthorized introduction of weapons or dangerous materials into and upon its nuclear sites. By Notice dated October 12, 1965, appearing in the Federal Register of October 19, 1965, the Atomic Energy Commission prohibited unauthorized entry into and upon certain portions of the Savannah River Site (SRS) located in the State of South Carolina. This Notice was amended in 1968 (dated January 31, 1968); in 1975 (dated December 4, 1975); in 1982 (dated September 1, 1982); and in 1985 (dated August 5, 1985). This Notice further amends the site description in the previous notices to include the entire Savannah River Site. Notices stating the pertinent prohibition of Title 10, Part 860—Trespassing On Department Of Energy Property, Section 5, Violations and penalties, will be posted at all entrances of said tracts and at intervals along its perimeters as provided in Title 10, Part 860—Trespassing On Department Of Energy Property, Section 5, Posting. It should be noted that information contained in this notice is from the report, Savannah River Site, SC; Trespassing on Department of Energy Property, approved on December 8, 2022, by R. T. Bartholomew, Director, Office of Safeguards, Security and Emergency Services, Savannah River Operations Office, U.S. Department of Energy.

The site description of the Savannah River Site is amended to read as follows:

All that tract of parcel of land lying or being situated in Aiken, Allendale and Barnwell Counties, in the State of South Carolina, approximately 14 miles southeast of the city of Augusta, State of Georgia, and 12 miles south of the town of Aiken, State of South Carolina; bounded on the southwest and south by the Savannah River, on the east by lands of Florence L.S. Clark (Creek Plantation), on the north by lands of Catawba Timber Company, on the northwest by Aiken County Road 62, lands now or formerly of W.H. Harper, Fitch Gilbert, J.L. Pew, Mack Foreman, J.L. Steed et al. and being more particularly described as follows:

Bearings on the following descriptions are referred to the Savannah River Site (SRS) coordinate system, unless otherwise specifically noted.

Beginning at SRS monument number 1 near the Savannah River; thence N 70-26-17 E 3,224.13 feet to SRS monument number 1A; thence N 70-26-16 E 523.01 feet to SRS monument 1B; thence N 70-26-17 E 1,311.11 feet to SRS monument 2; thence S 23-09-34 E 647.94 feet to SRS monument 3; thence N 71-10-56 E 1,406.53 feet to SRS monument 4; thence S 81-23-22 E 3,449.13 feet to SRS monument 4A; thence N 75-11-56 E 654.15 feet to SRS monument 4B; thence S 85-04-12 E 10,141.28 feet to SRS monument 4D; thence S 84-26-58 E 199.75 feet to SRS monument 5; thence N 00-05-36 W 3,322.84 feet to SRS monument 6; thence N 21-52-47 E 455.4 feet to SRS monument 6A (said point having a coordinate value on the SRS coordinate system of N 94773.45 and E 25269.90); thence N 75-34-22 E 1,613.12 feet to SRS monument 7; thence N 78-33-33 E 1,854.48 feet to SRS monument 8; thence N 14-06-35 W 2,513.83 feet to SRS monument 9; thence N 73-37-31 E 3,390.15 feet to SRS monument 10; thence N 2-31-25 W 622.97 feet to SRS monument 11; thence S 73-05-51 E 458.29 feet to SRS monument 12; thence N 01-09-44 E 3,670.11 feet to SRS monument 13; thence N 49-31-11 W 370.31 feet to SRS monument 14; thence N 53-11-53 E 1,808.93 feet to SRS monument 15; thence N 38-19-45 W 220.37 feet to SRS monument 16; thence N 66-53-39 E 967.38 feet to SRS monument 17; thence N 56-51-28 E 263.16 feet to monument 18; thence S 62-49-32 E 188.61 feet to SRS monument 19; thence N 55-16-41 E 197.30 feet to SRS monument 20; thence N 61-45-25 W 202.55 feet to SRS monument 21; thence N 56-13-08 E 1,026.18 feet to SRS monument 22; thence N 27-14-26 E 1,129.31 feet to SRS monument 23; thence S 60-12-34 E 281.93 feet to SRS monument 23A; thence S 60-14-48 E 112.84 feet to SRS monument 23B; thence S 60-13-56 E 1,684.91 feet to SRS monument 24A; thence S 60-13-48 E 69.95 feet to SRS monument 24; thence along the meander of the centerline of SC HWY 125, approximately 2,600 feet to SRS monument 25 (said point having a coordinate value on the SRS coordinate system of N 108,319.92 E 37,340.99); thence along the meander of the southeast R/W of S.C. Highway 62 approximately 10,900 feet to monument 26 (said point having a coordinate value on the SRS coordinate system of N 111,445.21 E 47.594.33); thence N 68-22-44 E 286.97 feet to SRS monument 27; thence S 26-42-44 E 2,086.29 feet to SRS monument 28; thence S 88-45-19 E 1,784.15 feet to SRS monument 29; thence N 50-47-33 E 615.22 feet to SRS monument 30; thence S 16-34-58 E 675.58 feet to monument 31; thence S 20-34-23 E 587.56 feet to SRS monument 32; thence N 59-53-06 E 653.65 feet to SRS monument 33; thence N 67-08-57 E 2,733.25 feet to SRS monument 34; thence N65-56-48 E 618.93 feet to SRS monument 35; thence N 62-13-09 E 2,675.95 feet to SRS monument 36; thence S 01-28-07 W 1,284.83 feet to SRS monument 37; thence N 29-10-00 E 1,791.29 feet to SRS monument 38; thence S 58-47-43 E 3,228.36 feet to SRS monument 39; thence N 58-02-11 E 542.97 feet to SRS monument 40; thence N 40-38-25 E 1,281.41 feet to SRS monument 41; thence along the meander of Woods Road approximately 1,500 feet in a southeasterly direction to SRS monument 42 (said point having a coordinate value on the SRS coordinate system of N 110,691.93 E 63,516.56); thence N 89-27-05 E 2,723.36 feet to SRS monument 43; thence N 72-50-13 E 1,346.17 feet to SRS monument 44; thence S 26-04-56 E 886.05 feet to SRS monument 45; thence N 68-56-56 E 1,111.14 feet to SRS monument 46; thence S 45-16-35 E 849.05 feet to SRS monument 47; thence N 51-41-24 E 2,116.00 feet to SRS monument 48; thence S 04-58-33 E 977.92 feet to SRS monument 49; thence S 76-21-44 E 1,925.20 feet to SRS monument 50; thence N 47-36-31 E 890.43 feet to SRS monument 51; thence S 37-02-27 E 716.77 feet to SRS monument 52; thence N 29-55-50 E 226.47 feet to SRS monument 53; thence S 36-22-09 E 683.22 feet to SRS monument 54; thence N 63-52-19 E 325.38 feet to SRS monument 55 (pt. in centerline of unnamed dirt road); thence S 38-07-02 E 3,400.36 feet to SRS monument 56 (pt. in centerline of unnamed dirt road); thence N 65-17-41 E 2,780.78 feet to SRS monument 57; thence N 64-37-23 E 1,066.57 feet to SRS monument 58; thence S 55-33-02 E 2,275.19 feet to SRS monument 59 (said point having a coordinate value on the SRS coordinate system of N 107479.34 and E 82536.62); thence N 88-34-20 E 617.70 feet to SRS monument 60; thence S 10-09-12 E 208.98 feet to SRS monument 61; thence N 86-15-12 E 209.04 feet to SRS monument 62; thence S 07-22-26 E 1,464.98 feet to SRS monument 63; thence N 73-32-25 E 2,282.88 feet to SRS monument 64; thence S 57-40-05 E 12,119.62 feet to SRS monument 64A; thence S 57-39-26 E 533.46 feet to SRS monument 65R; thence along meander of Upper Three Runs Creek to approximately 1,900 feet to SRS monument 66R (said point having a coordinate value on the SRS coordinate system of N 98466.86 E 95129.86); thence S 56-59-18 E 2,932.51 feet to SRS monument 67; thence S 40-36-11 E 3,491.43 feet to SRS monument 68; thence S 60-56-51 E 3,293.85 feet to SRS monument 69 (said point having a coordinate value on the SRS coordinate system of N 92618.85 and E 102740.62); thence S 84-49-32 E 2,585.35 feet to SRS monument 70; thence S 38-04-09 E 341.98 feet to SRS monument 71; thence N 63-30-22 E 806.05 feet to SRS monument 72; thence S 39-38-55 E 781.61 feet to SRS monument 73; thence S 11-29-50 W 849.68 feet to SRS monument 74; thence S 71-55-15 E 2,931.66 feet to SRS monument 75; thence S 20-58-49 W 2,234.56 feet to SRS monument 76; thence along a meander of unnamed dirt road (Forestry Road 25-20), approximately 2,500 feet to SRS monument 77 (said point having a coordinate value on the SRS coordinate system of N 87,253.73 E 110,850.77); thence S 21-02-45 W 584.61 feet to SRS monument 78; thence S 30-23-20 E 455.48 feet to SRS monument 79; thence S 13-19-50 E 3,229.98 feet to SRS monument 80; thence S 67-13-54 E 2,567.60 feet to SRS monument 81; thence S 54-47-07 W 137.17 feet to SRS monument 82; thence S 08-23-04 W 2,466.24 feet to SRS monument 83; thence S 80-06-27 E 213.21 feet to SRS monument 84; thence S 21-20-49 W 1,136.02 feet to SRS monument 85; thence S 21-12-29 E 5,044.03 feet to SRS monument 86; thence S 50-39-07 E 2,616.41 feet to SRS monument 87; thence S 26-24-40 W 527.89 feet to SRS monument 88; thence S 86-21-48 W 254.45 feet to SRS monument 88A; thence S 51-16-45 W 271.79 feet to SRS monument 88B; thence S 77-14-44 W 320.38 feet to SRS monument 88C; thence 87-21-46 W 99.10 feet to SRS monument 88D; thence N 76-07-48 W 208.95 feet to SRS monument 88E; thence N 85-35-51 W 253.51 feet to SRS monument 89; thence S 08-18-26 E 1,464.01 feet to SRS monument 89A; thence N 86-39-06 E 412.10 feet to SRS monument 90; thence S 42-20-27 W 1,316.23 feet to SRS monument 91; thence S 39-52-06 W 598.85 feet to SRS monument 92; thence S 13-01-46 E 1,416.18 feet to SRS monument 93; thence S 52-57-32 E 679.76 feet to SRS monument 94; thence S 08-56-17 E 1,298.14 feet to SRS monument 95; thence S 31-35-49 W 605.47 feet to SRS monument 96; thence S 11-09-05 E 1,359.04 feet to SRS monument 97; thence S 85-54-30 W 1,378.47 feet to SRS monument 98; thence S 70-00-27 W 221.18 feet to SRS monument 99; thence S 18-50-23 E 422.48 feet to SRS monument 100; thence S 09-30-55 W 974.78 feet to SRS monument 101; thence S 10-14-30 E 2,517.38 feet to SRS monument 102; thence S 63-27-43 W 445.78 feet to SRS monument 103 (said point having a coordinate value on the SRS coordinate system of N 59549.52 and E 114391.37); thence S 21-31-35 E 3,749 feet to SRS monument 104; thence S 41-39-02 W 2,639.80 feet to SRS monument 105; thence S 58-26-38 W 1,514.08 feet to SRS monument to 106; thence S 08-19-11 W 1,621.02 feet to SRS monument 107; thence S 38-25-50 W 1,880.12 feet to SRS monument 108; thence N 52-34-05 W 517.13 feet to SRS monument 109; thence S 39-52-13 W 690.43 feet to SRS monument 110; thence S 28-08-31 W 3,516.05 feet to SRS monument 111; thence S 30-34-26 W 205.98 feet to SRS monument 112; thence N 86-01-10 W 1,203.84 feet to SRS monument 113; thence S 24-21-01 W 657.46 feet to SRS monument 113A; thence S 25-12-17 W 1,858.36 feet to SRS monument 114; thence S 15-27-52 W 3,141.21 feet to SRS monument 115; thence N 60-32-44 W 853.31 feet to SRS monument 116; thence N 55-51-05 W 4,429.13 feet to SRS monument 330; thence S 38-20-42 W 7,043.25 feet to SRS monument 331; thence S 67-36-57 W 1,897.98 feet to SRS monument 332; thence S 66-13-49 W 2,627.19 feet to SRS monument 333; thence S 68-08-43 W 2,342.21 feet to SRS monument 334; thence S 50-51-24 W 2,230.28 feet to SRS monument 335; thence S 37-17-35 W 736.29 feet to SRS monument 336; thence S 21-03-47 W 1,096.98 feet to SRS monument 337; thence S 46-36-58 W 575.70 feet to SRS monument 338; thence S 31-26-41 W 775.94 feet to SRS monument 339 (said point having a coordinate value on the SRS coordinate system of N 32156.31 and E 87097.32); thence S 70-25-20 E 3,501.08 feet to SRS monument 340; thence S 53-33-00 E 3,756.02 feet to SRS monument 341; thence N 53-25-22 E 237.76 feet to SRS monument 342; thence S 20-23-24 E 465.57 feet to SRS monument 343; thence S 37-02-48 E 255.22 feet to SRS monument 344; thence S 53-33-24 E 721.95 feet to SRS monument 345; thence S 58-53-21 W 2,212.02 feet to SRS monument 130; thence S 61-23-47 W 1,032.93 feet to SRS monument 131, thence S 45-14-50 W 1,235.33 feet to SRS monument 132; thence S 44-09-49 W 1,009.13 feet to SRS monument 133; thence S 48-27-54 W 1,965.45 feet to SRS monument 134; thence S 34-43-15 E 1,843.69 feet to SRS monument 135; thence S 57-54-16 W 852.48 feet to SRS monument 136; thence N 71-47-52 W 1,733.99 feet to SRS monument 137; thence S 24-47-28 W 2,997.17 feet to SRS monument 138; thence N 77-38-33 W 532.97 feet to SRS monument 139; thence S 13-55-11 W 2,565.43 feet to SRS monument 140; thence N 78-16-06 W 2,097.45 feet to SRS monument 141; thence S 44-49-35 W 1,442.07 feet to SRS monument 142; thence S 15-50-02 W 1,140.11 feet to SRS monument 143; thence S 32-24-38 W 824.92 feet to SRS monument 144; thence S 50-39-30 W 1,014.57 feet to SRS monument 145; thence S 02-06-16 W 959.34 feet to SRS monument 146; thence S 73-57-04 W 530.42 feet to SRS monument 147; thence S 16-18-49 W 2,819.68 feet to SRS monument 148; thence S 10-59-53 W 741.98 feet to SRS monument 149; thence S 07-12-35 E 956.4 feet to SRS monument 150; thence S 02-50-50 E 436.45 feet to SRS monument 150A; thence S 02-40-26 W 261.95 feet to SRS monument 151; thence S 34-44-29 E 280.83 feet to SRS monument 151A; thence S 24-14-49 E 420.92 feet to SRS monument 151B; thence S 00-25-52 E 228.6 feet to SRS monument 151C; thence S 06-07-01 W 74.51 feet to SRS monument 151D; S 25-30-19 E 166.61 feet to SRS monument 151E; thence S 19-28-12 E 265.94 feet to SRS monument 151F; thence S 84-38-08 E 210.18 feet to SRS monument 151G; thence S 00-23-35 W 365.93 feet to SRS monument 151H; thence S 04-39-24 E 298.83 feet to SRS monument 151I; S 20-26-18 E 232.1 feet to SRS monument 152; thence N 67-23-08 E 24.34 feet to SRS monument 152A; thence N 78-00-45 E 253.11 feet to SRS monument 152B; thence N 80-46-41 E 371.52 feet to SRS monument 153; thence N 07-24-19 E 37.01 feet to SRS monument 153A; thence N 68-10-55 E 230.75 feet to SRS monument 153B; thence N 51-56-49 E 577.61 feet to SRS monument 153C; thence N 52-07-26 E 416.85 feet to SRS monument 153D; thence N 41-29-10 E 213.54 feet to SRS monument 153E; thence N 55-03-53 E 101.07 feet to SRS monument 153F; thence N 78-41-21 E 235.05 feet to SRS monument 153G; thence N 62-01-13 E 190.77 feet to SRS monument 154; thence N 19-09-10 E 131.24 feet to SRS monument 154A; thence N 30-08-52 W 276.52 feet to SRS monument 154B; thence N 59-30-54 W 100.16 feet to SRS monument 154C; thence N 08-25-07 W 381.34 feet to SRS monument 154D; thence N 27-12-10 E 235.03 feet to SRS monument 154E; S 58-10-54 E 131.88 feet to SRS monument 154F; thence S 11-34-12 E 608.58 feet to SRS monument 154G; thence S 24-45-32 E 398.48 feet to SRS monument 154H; thence N 84-25-48 E 107.51 feet to SRS monument 154I; thence N 03-26-28 E 426.85 feet to SRS monument 154J; thence N 20-23-23 W 455.68 feet to SRS monument 154K; thence N 83-54-07 E 126.8 feet to SRS monument 154L; thence N 49-37-08 E 169.65 feet to SRS monument 154M; thence S 19-14-54 E 297.88 feet to SRS monument 154N; thence N 47-24-51 E 75.04 feet to SRS monument 154O; thence N 11-01-05 W 295.16 feet to SRS monument 154P; thence N 80-55-08 E 268.32 feet to SRS monument 154Q; thence S 26-53-59 E 188.29 feet to SRS monument 154R; thence S 18-09-11 E 375.47 feet to SRS monument 154S; thence S 23-09-41 E 672.27 feet to SRS monument 154T; thence along the meander of Gantts Mill Creek in a westerly direction approximately 1,200 feet to SRS monument 155 (said point having a coordinate value on the SRS coordinate system of N 6216.69 E 82230.55); thence S 00-58-57 W 242.02 feet to SRS monument 156; thence S 76-22-06 W 369.83 feet to SRS monument 157; thence S 54-17-13 W 291.25 feet to SRS monument 158; thence S 69-02-15 W 309.57 feet to SRS monument 159; thence S 62-17-42 W 299.90 feet to SRS monument 160; thence S 19-27-54 W 318.04 feet to SRS monument 161; thence S 57-15-28 W 661.37 feet to SRS monument 162; thence S 44-03-57 W 848.9 feet to SRS monument 163; thence S 27-04-03 W 612.01 feet to SRS monument 164; thence S 67-56-29 W 294.55 feet to SRS monument 165; thence S 39-20-20 W 602.77 feet to SRS monument 166; thence S 11-10-05 W 266.35 feet to SRS monument 167; thence S 25-35-41 W 557.96 feet to SRS monument 168; thence S 29-14-37 E 713.68 feet to SRS monument 169; thence S 15-22-20 W 904.49 feet to SRS monument 170; thence S 48-52-24 E 1,139.61 feet to SRS monument 171; thence S 14-53-16 E 1,596.09 feet to SRS monument 172; thence N 61-22-11 W 1,111.81 feet to SRS monument 173; thence S 51-53-18 W 581.74 feet to SRS monument 174; thence S 20-21-37 W 2,971.23 feet to SRS monument 175; thence S 07-57-32 W 2,743.46 feet to SRS monument 176; thence S 56-18-29 E 845.39 feet to SRS monument 177; thence S 84-36-33 W 668.86 feet to SRS monument 178; thence S 27-14-02 W 1,414.26 feet to SRS monument 179; thence S 08-33-54 W 973.47 feet to SRS monument 180; thence S 31-23-48 W 1,032.34 feet to SRS monument 181; thence S 55-19-41 W 1,625.43 feet to SRS monument 182; thence S 17-52-48 W 2,390.67 feet to SRS monument 183; thence S 34-01-52 W 971.34 feet to SRS monument 184; thence S 26-08-46 E 829.87 feet to SRS monument 185; thence S 67-00-22 W 1,151 feet to SRS monument 186; thence S 09-13-11 W 551.61 feet to SRS monument 187; thence S 39-07-20 W 2,023.58 feet to SRS monument 188; thence S 28-06-53 W 2,249.03 feet to SRS monument 189; thence S 63-03-44 W 1,351.22 feet to SRS monument 190; thence S 32-32-13 E 293.02 feet to SRS monument 191; thence S 32-52-13 W 539.67 feet to SRS monument 192; thence S 46-38-37 W 113.64 feet to SRS monument 193; thence S 30-19-03 W 891.36 feet to SRS monument 194; thence S 13-42-43 W 590.79 feet to SRS monument 195; thence S 56-04-53 W 727.73 feet to SRS monument 196; thence N 86-34-46 W 297.99 feet to SRS monument 197; thence S 52-50-07 W 594.88 feet to SRS monument 198; thence S 77-19-06 E 262.42 feet to SRS monument 199; thence S 62-53-35 E 1,023.49 feet to SRS monument 200; thence S 84-18-58 E 528.57 feet to SRS monument 201; thence N 76-01-26 E 528.5 feet to SRS monument 202; thence N 84-50-07 E 363.14 feet to SRS monument 203; thence S 55-49-37 E 534.54 feet to SRS monument 204; thence S 79-41-52 W 461.25 feet to SRS monument 205; thence N 65-47-07 W 271.65 feet to SRS monument 206; thence S 65-28-34 W 346.04 feet to SRS monument 207; thence S 28-55-54 E 954.53 feet to SRS monument 208; thence S 05-55-53 E 197.70 feet to SRS monument 209; thence S 44-03-48 E 324.02 feet to SRS monument 210; thence S 41-55-23 E 1,397.43 feet to SRS monument 210A; thence N 82-34-00 W 1,976.66 feet to SRS monument 210B; thence N 01-07-55 E 485.50 feet to SRS monument 210C; thence N 61-16-58 W 990.83 feet to SRS monument 210D; thence N 27-49-58 W 731.54 feet to SRS monument 211; thence S 81-24-16 E 389.94 feet to SRS monument 211A; thence N 18-00-14 E 50.02 feet to SRS monument 211B; thence N 17-58-36 E 100.05 feet to SRS monument 211C; thence N 17-54-06 E 49.94 feet to SRS monument 211D; thence N 81-12-55 W 437.46 feet to SRS monument 212; thence N 86-07-12 W 6,934 feet to SRS monument 213; thence N 81-49-46 W 401.41 feet to SRS monument 214; thence N 71-53-25 W 241.25 feet to SRS monument 215; thence N 62-48-18 W 3,190.02 feet to SRS monument 216; thence N 62-47-19 W 130.45 feet to SRS monument 216A; thence N 00-02-59 E 287.75 feet to SRS monument 216B; thence N 08-08-21 E 249.47 feet to SRS monument 216C; thence N 12-08-04 E 702.45 feet to SRS monument 216D; thence S 32-23-56 W 463.52 feet to SRS monument 217; thence S 24-34-28 W 489.38 feet to SRS monument 218B; thence N 52-40-13 W 33.64 feet to SRS monument 218; thence N 52-30-22 W 234.16 feet to SRS monument 219; thence S 28-35-24 W 266.41 feet to SRS monument 220; thence S 68-50-45 W 266.96 feet to SRS monument 221; thence S 67-30-59 W 366.82 feet to SRS monument 222; thence N 47-15-04 W 1,801.64 feet to SRS monument 223; thence S 86-55-41 W 2,405.01 feet to SRS monument 224; thence S 65-34-57 W 2,074.27 feet to SRS monument 225; thence N 62-43-34 W 736.03 feet to SRS monument 226; thence S 57-45-59 W 5,160.30 feet to SRS monument 227; thence S 63-47-24 W 2,519.95 feet to SRS monument 228; thence S 10-22-02 W 4,936.45 feet to SRS monument 229; thence S 42-37-15 E 1,453.45 feet to SRS monument 230; thence S 08-13-23 W 490.96 feet to SRS monument 231; thence N 72-31-44 W 1,560.74 feet to SRS monument 232; thence N 72-47-25 W 1,375.97 feet to SRS monument 233; thence N 72-24-10 W 279.46 feet to SRS monument 234; thence N 72-27-48 W 1,904.63 feet to SRS monument 235; thence along the meander of the Savannah River in a northerly direction 12,500.00 feet to SRS monument 236 (said point having a coordinate value on the SRS coordinate system of S 23141.48 E 36520.97); thence N 84-20-23 E 3,975.48 feet to SRS monument 237; thence N 35-38-46 E 1,688.18 feet to SRS monument 238; thence S 79-27-51 E 2,199.29 feet to SRS monument 239; thence N 68-26-37 E 2,146.70 feet to SRS monument 240; thence N 24-46-05 W 2,751.85 feet to SRS monument 241; thence N 46-02-39 E 289.88 feet to SRS monument 242; thence S 51-48-01 E 2,434.12 feet to SRS monument 243; thence N 60-21-42 E 2,775.41 feet to SRS monument 244; thence N 80-56-18 E 1,933.5 feet to SRS monument 245; thence N 33-55-02 E 643.95 feet to SRS monument 246; thence S 84-37-57 E 837.59 feet to SRS monument 247; thence S 85-30-37 E 1,597.70 feet to SRS monument 247A; thence S 22-12-30 E 21.96 feet to SRS monument 248; thence S 22-12-40 E 725.91 feet to SRS monument 249; thence N 89-20-33 E 1,095.20 feet to SRS monument 250; thence S 42-56-33 E 1,347.43 feet to SRS monument 251; thence S 55-11-45 E 1,232.68 feet to SRS monument 252; thence S 30-38-05 E 160.06 feet to SRS monument 253; thence S 76-22-12 E 209.76 feet to SRS monument 254; thence S 54-02-54 E 1,844.05 feet to SRS monument 255; thence S 78-20-00 E 3,652.23 feet to SRS monument 256; thence N 54-29-43 E 1,010.80 feet to SRS monument 257; thence N 84-16-01 E 2,275.66 feet to SRS monument 258; thence N 50-02-00 E 1,766.08 feet to SRS monument 259; thence S 23-59-27 E 676.11 feet to SRS monument 260; thence N 54-58-04 E 1,080.09 feet to SRS monument 261; thence N 36-59-45 E 3,917.45 feet to SRS monument 262; thence N 01-17-49 E 864.57 feet to SRS monument 263; thence N 37-20-29 E 1,685.73 feet to SRS monument 264; thence N 19-16-01 W 589.69 feet to SRS monument 265; thence N 11-44-29 E 1,853.94 feet to SRS monument 266; thence N 27-24-00 W 1,039.29 feet to SRS monument 267; thence N 39-05-37 E 1,500.83 feet to SRS monument 268; thence N 56-33-13 E 2,138.92 feet to SRS monument 269; thence N 47-31-00 E 1,590.64 feet to SRS monument 270; thence N 14-09-46 E 1,213.76 feet to SRS monument 270A; thence N 14-08-33 E 54.92 feet to SRS monument 271; thence N 45-35-15 W 60.00 feet to SRS monument 271A; thence N 45-35-33 W 441.05 feet to SRS monument 272; thence N 76-39-41 E 775.37 feet to SRS monument 273; thence N 45-29-47 W 1,088.55 feet to SRS monument 274; thence N 34-29-13 E 3,677.28 feet to SRS monument 275; thence N 70-05-02 W 1,900.34 feet to SRS monument 276; thence N 26-47-01 E 3,315.18 feet to SRS monument 277; thence N 80-47-00 W 720.24 feet to SRS monument 278; thence N 07-32-46 E 2,528.40 feet to SRS monument 279; thence N 73-40-30 E 1,530.33 feet to SRS monument 279A; thence N 15-43-51 E 1,380.39 feet to SRS monument 280; thence N 71-11-25 W 777.45 feet to SRS monument 281; thence S 71-15-35 W 1,043.45 feet to SRS monument 282; thence N 19-40-39 W 270.10 feet to SRS monument 283; thence N 74-51-36 E 630.26 feet to SRS monument 284; thence N 10-22-41 E 1,730.50 feet to SRS monument 285; thence N 52-08-48 W 1,285.80 feet to SRS monument 286; thence N 32-53-14 E 2,084.25 feet to SRS monument 287; thence N 20-25-36 W 661.25 feet to SRS monument 288; thence N 64-03-21 W 650.11 feet to SRS monument 289; thence S 51-26-24 W 470.04 feet to SRS monument 290; thence N 70-03-30 W 375.12 feet to SRS monument 290A; thence N 58-31-13 W 208.18 feet to SRS monument 290B; thence N 52-06-56 W 204.02 feet to SRS monument 290C; thence N 60-51-28 W 207.87 feet to SRS monument 290D; thence N 45-28-03 W 330.19 feet to SRS monument 290E; thence N 55-06-30 W 804.17 feet to SRS monument 290F; thence N 40-55-48 W 934.02 feet to SRS monument 290G; thence N 42-36-21 W 216.34 feet to SRS monument 291; thence N 42-42-30 W 2,497.80 feet to SRS monument 292; thence S 32-35-39 W 1,446.72 feet to SRS monument 293; thence N 49-28-27 W 1,336.97 feet to SRS monument 294; thence S 30-07-03 W 2,479.84 feet to SRS monument 295; thence N 58-31-06 W 1,776.11 feet to SRS monument 296; thence S 52-19-44 W 848.32 feet to SRS monument 297; thence S 45-00-56 W 1,089.09 feet to SRS monument 298; thence N 79-30-46 W 3,022.06 feet to SRS monument 299; thence S 23-44-12 W 944.35 feet to SRS monument 300; thence N 60-50-36 W 1,664.02 feet to SRS monument 301; thence S 37-28-12 W 139.27 feet to SRS monument 302; thence N 64-16-53 W 1,870.03 feet to SRS monument 303; thence S 24-37-42 W 1,213.5 feet to SRS monument 304; thence N 63-42-22 W 1,337.68 feet to SRS monument 305; thence N 79-13-15 W 5,120.73 feet to SRS monument 306; thence S 24-30-33 W 1,573.96 feet to SRS monument 307; thence N 53-08-44 W 6,650.51 feet to SRS monument 308; thence N 73-08-43 W 2,614.12 feet to SRS monument 309; thence along the meander of the centerline of Boggy Gut Creek S 29-42-27 W 1,477.04 feet to SRS monument 310; thence along the meander of the centerline of Boggy Gut Creek S 62-29-19 E 1,340.93 feet to SRS monument 311; thence S 68-59-42 W 2,165.27 feet to SRS monument 312; thence N 10-09-35 W 1,415.01 feet to SRS monument 313; thence along the meander of the centerline of Boggy Gut Creek S 77-24-58 W 3,447.02 feet to SRS monument 314; thence N 03-22-45 W 154.90 feet to SRS monument 315; thence N 15-29-46 W 262.00 feet to SRS monument 316; thence N 11-54-34 W 379.24 feet to SRS monument 317; thence S 78-26-39 W 356.75 feet to SRS monument 318; thence S 78-14-30 W 295.53 feet to SRS monument 319; thence N 30-13-34 W 391.83 feet to SRS monument 320; thence N 39-41-19 W 4,174.28 feet to SRS monument 321; thence S 42-41-41 W 3,048.55 feet to SRS monument 322; thence N 68-00-20 W 1,003.82 feet to SRS monument 323; thence S 41-13-45 W 407.26 feet to SRS monument 324; thence S 35-23-35 W 6,892.76 feet to SRS monument 325; thence follow along the meanders of the Savannah River 108,600 feet to SRS monument 1, the point of beginning.

Excluded from the above-described tract are the following rights-of-way and other parcels which are publicly accessible:

Seaboard Coast Line Railroad (CSX Railroad) (Formerly Charleston and Western Carolina Railroad)

Beginning at the SRS boundary line near the Augusta Barricade; thence in a southerly direction through the former town of Ellenton, continuing in a southeasterly direction through Robbins Station to the SRS boundary line a distance of 14.2 miles and containing 173 acres more or less.

Seaboard Coast Line Railroad (CSX Railroad)

Beginning at Robbins Station, thence in an easterly and northeasterly direction (crossing SRS Road A) to Meyers Mill siding, thence in a northeasterly direction to the intersection of the railroad and the Savannah River Site boundary line between monument 130 and 345.

United States Highway 278

Beginning at the intersection of the Savannah River Site boundary line and the centerline of US Hwy 278 between SRS monuments 54 and 55 east of the intersection of SC Hwy 19 and US Hwy 278; thence along the meanders of the centerline of US Hwy 278 in an easterly direction to the intersection of US Hwy 278 and SC 54; thence along the meanders of the centerline of US Hwy 278 in an easterly direction to the intersection of the Savannah River Site boundary line between Savannah River Site monuments 75 and 76.

United States Highway 278

Beginning at the intersection of the centerline of US Hwy 278 and the Savannah River Site boundary line between Savannah River Site monument 86 and 87; thence in a southeasterly direction along the meanders of the centerline of US Hwy 278 to the intersection of the centerline of said highway and the Savannah River Site boundary line between Savannah River Site monuments 88C and 88D.

(Brown Road) Aiken County

Beginning at a point of intersection of the southern right-of-way of Brown Road and the Savannah River Site Boundary line between SRS Monuments 13 and 14; thence along the meander of the southern right-of-way of Brown Road to a point of intersection between the southern right-of-way of Brown Road and the Savannah River Site Boundary line between SRS Monuments 14 and 15; thence from a point of intersection between the southern right-of-way of Brown Road and the Savannah River Site Boundary line between SRS Monuments 15 and 16 along the meander of the southern right-of-way to a point of intersection at SRS Monument 17. Beginning again at SRS Monument 22; thence along the meander of the southern right-of-way of Brown Road to a point of intersection between the southern right-of-way of Brown Road and the Savannah Rr Site Boundary Line between SRS Monuments 23 and 23A.

S-2-5 (Main Street/Old Jackson Hwy) Aiken County

Beginning at the intersection of the centerline of Main St and the Savannah River Site Boundary line between Savannah River Site monuments 23A and 23B; thence along the meander of the centerline of Old Main Street in a southeasterly and southerly direction to a point of intersection with SC Hwy 125, south of SRS Monument 24.

SRS Road 1 (Aiken County)

Beginning at a point of intersection between the centerline of SC Hwy 125 and the centerline of SRS Road 1; thence along the meander of the centerline of SRS Road 1 in an easterly direction approximately 6.9 miles to a point of intersection between the centerline of SRS Road 1 and SRS Road 2.

SRS Road 1A (Aiken County)

Beginning at a point of intersection between the centerline of Green Pond Road and the centerline of SRS Road 1A; thence along the meander of the centerline of Road 1A in a northeasterly direction to a point of intersection between the centerline of Road 1A and SRS Road 1.

S-2-57 (Green Pond Road) Aiken County

Beginning at Savannah River Site monument 33 (a nail in the centerline of said road); thence along the meander of the centerline of Green Pond Road in a southeasterly direction to the intersection of the centerline of Green Pond Road and Savannah River Site Road 1 (intersection being northeast along SRS Road 1 of the 703 building).

Doe Court

Beginning at a point of intersection northeast of Savannah River Site monument 33 with the Savannah River Site boundary line, thence along the meander of the centerline of Doe Ct in a northeasterly direction approximately 2,300 feet to a point of deviation at which said road continues in a northeasterly direction away from the Savannah River Site boundary line.

C-2434 (Gateway Drive) Aiken County

Beginning at the centerline of Gateway Drive and the Savannah River Site Boundary line between Savannah River Site monuments 41 and 42; thence meandering along the centerline of Gateway Drive in a southerly direction to a point of intersection between the centerline of Gateway Drive and the centerline of SRS Road 1.

SRS Road 2 (Aiken County)

Beginning at a point of intersection between SRS Road 2 the Savannah River Site Boundary line between SRS monuments 53 and 54; thence along the meander of SRS Road 2 in a southwesterly direction, approximately 2,064 feet, to a point of intersection between the centerline of SRS Road 2 and the centerline of SRS Road 1.

S-2-738 (Washington Drive) Aiken County

Beginning at a point of intersection between the centerline of Washington Drive and the Savannah River Site Boundary Line between SRS Monuments 55 and 56; thence along the centerline of Washington Drive in a westerly direction, approximately 200 feet, to a point of intersection between the centerline of Washington Drive and the centerline of Hwy 278.

C-481 (Birch Street) Aiken County

Beginning at a point of intersection between the centerline of Washington Drive and the northern right-of-way of Birch Street; thence in a southeasterly direction, along the Savannah River Site Boundary Line between SRS Monuments 55 and 56, approximately 3,050 feet; thence turning southwest along a curve and continuing to a point of intersection between the intersection of the centerline of Birch Street and the centerline of Hwy 278.

C-1171 (Truman Street) Aiken County

Beginning at a point of intersection between the northern right of way of Birch Street and the centerline of Truman Street; thence along the meander of the centerline of Truman Street in a southwesterly direction to a point of intersection between the centerline of Truman Street and the centerline of Hwy 278.

C-485 (Adams Avenue) Aiken County

Beginning at a point of intersection between the northern right of way of Birch Street and the centerline of Adams Avenue; thence along the meander of the centerline of Adams Avenue in a southwesterly direction to a point of intersection between the centerline of Adams Avenue and the centerline of Hwy 278.

Fairfield Cemetery (Aiken County)

Beginning at a point of intersection between the centerline of Cemetery Road and Hwy 278; thence in a northeasterly direction to an approximate location of N 101626.85 E 82307.62 on the SRS coordinate system; thence in a northwesterly direction to an approximate location of N 102121.21 E 81983.18 on the SRS coordinate system; thence in a southwesterly direction to an approximate location of N 101949.77 E 81611.01 on the SRS coordinate system; thence in a southeasterly direction to an approximate location of N 101518.00 E 81863.40 on the SRS coordinate system; thence in a southeasterly direction to the return point of intersection between the centerline of Cemetery Road and Hwy 27.

C-498 (Boggy Gut Road) Aiken County

Beginning at a point of intersection between the centerline of Boggy Gut Road and the Savannah River Site Boundary Line between SRS Monuments 66R and 67; thence along the meander of the centerline of Boggy Gut Road in a southwesterly direction, approximately 1.3 miles, to a point of intersection between the centerline of Boggy Gut Road and the centerline of Hwy 278.

S-2-54 (Mt. Beulah Road) Aiken County

Beginning at a point of intersection between the centerline of Mt. Beulah Road and the Savannah River Site Boundary Line between SRS Monuments 75 and 76; thence along the meander of the centerline of Mt. Beulah Road in a southwesterly direction, approximately 2,100 feet, to a point of intersection between the centerline of Mt. Beulah Road and the centerline of Hwy 278.

C-507 (Dunlap Circle) Barnwell County

Beginning at a point of intersection between the western right of way of Dunlap Circle and the Savannah River Site Boundary Line between SRS Monuments 80 and 81; thence along the meander of the western right of way of Dunlap Circle approximately 507 feet in a southeasterly direction to a point of intersection between the western right of way Dunlap Circle and the Savannah River Site Boundary Line between SRS Monuments 82 and 83.

S--461 (Crimson Road) Barnwell County

Beginning at a point of intersection between SRS Monument 97 and the northern right of way of Crimson Road; thence along the meander of the northern right of way of Crimson Road in a westerly direction to SRS Monument 98.

S-6-856 (Tennessee Road) Barnwell County

Beginning at a point of intersection between the centerline of Tennessee Road and the Savannah River Site Boundary line near SRS Monument 291; thence along the meander of the northern right-of-way of Tennessee Road in a westerly direction to a point of intersection between the centerline of Tennessee Road and Aaron Price Road.

S-3-12 (Lemaster Lane) Barnwell County

Beginning at a point of intersection between Lemaster Lane and the northern right-of-way of Tennessee Road; thence along the meander of Lemaster Lane in a southwesterly direction to a point approximately 30 feet Northwest of SRS Monument 297.

Duncan Road (Barnwell County/Allendale)

Beginning at a point of intersection between the western right-of-way of Duncan Road and the northern right-of-way of Tennessee Road; thence along the meander of the western right-of-way of Duncan Road in a southwesterly direction to a point of intersection between the western right-of-way of Duncan Road and the Savannah River Site Boundary line between SRS Monuments 301 and 302.

S-6-20 (Patterson Mill Road) Barnwell County/Allendale County

Beginning at the intersection of the centerline of Patterson Mill Road and the Savannah River Site Boundary line between Savannah River Site monuments 288 and 287; thence along the meander of the centerline of Patterson Mill Road in a northeasterly direction to a point of intersection between the centerline of Patterson Mill Road and the Savannah River Site Boundary line between SRS Monuments 148 and 147.

S-3-17 (Furse Mill Road) Allendale County

Beginning at the intersection of the centerline of Furse Mill Road and the Savannah River Site Boundary line between SRS monuments 272 and 273; thence along the meander of the centerline of Furse Mill Road in an easterly direction to a point of intersection between the centerline of Furse Mill Road and the centerline of Washington Badger/Boiling Springs Road.

S-3-65 (Washington Badger Road) Allendale County/S&6-39 (Boiling Springs Road) Barnwell County

Beginning at the intersection of the centerline of Washing Badger Road (Aiken County) and the Savannah River Site Boundary line between SRS monuments 271A and 270A; thence along the meander of the centerline of Washington Badger Road in a northeasterly direction, crossing over Stinson Bridge (603-23G) into Barnwell County and continuing as Boiling Springs Road in an easterly direction to a point of intersection between the centerline of Boiling Springs Road and the Savannah River Site Boundary line near SRS monument 176.

S-3-66 (Rocky Point Road) Allendale County

Beginning at the intersection of the centerline of Rocky Point Road and the Savannah River Site Boundary line northeast of SRS Monument 261; thence along the meander of the centerline of Rocky Point Road in a southeasterly direction to a point of intersection between the centerline of Rocky Point Road and the Savannah River Site Boundary line between SRS Monuments 190 and 191.

A-Area Badge Office Parking Lot

Beginning at a point along the southern right of way of SRS Road 1, an approximate location having a site coordinate of N 107192.5 E 49534.55 on the Savannah River Site coordinate system; thence along the meander of the southern right of way of SRS Road 1 in an easterly direction approximately 860 feet; thence south approximately 520 feet to the security fencing; thence along the meander of the security fencing in a westerly direction approximately 860 feet; thence north approximately 520 feet to the point of beginning.

Trailer Complex South of SRS Road 1

Beginning at a point of intersection with the southern right-of-way of SRS Road 1, an approximate location having a site coordinate of N 107351.88 E 51822.36; thence south approximately 35′ to a point of intersection with the metal fencing; thence along the meander of the outer metal fencing to an approximate location having a site coordinate of N 107243.71 E 51989.90; thence northwest approximately 153′ to an approximate location having a site coordinate of N 107393.64 E 51960.08.

Designated Demonstration Area

Being a triangular parcel located in the southeast corner of the intersection of SRS Road 1 and SC Hwy 125 described as follows: Beginning at the point of intersection of the southern right-of-way of SRS Road 1 (37.5 feet from the centerline of SRS Road 1) and the eastern right-of-way of SC Hwy 125 (75 feet from the centerline of the median of SC Highway 125); thence with the meanders of the eastern right-of-way of SC Hwy 125 S 2-09 W 1232.11 feet to a point; thence with the Federal Trespass Line fence N 46-40 E 1796.15 feet to a point on the southern right-of-way of SRS Road 1 S 89-56 W 1260.47 feet to the point of beginning, containing 17.81 acres more or less.

Crackerneck Wildlife Management Area

Beginning at SRS Monument 1 thence along the property line to SRS Monument 12. From SRS Monument 12 thence in a northern and easterly direction away from the Savannah River Site Boundary to a point of intersection (N 101219.34/E 37029.83) along the meander of SC Hwy 125. From this point of intersection thence along the meander of SC Hwy 125 to the intersection of Upper Three Runs Creek. From Upper Three Runs Creek thence along the meander of Upper Three Runs Creek to a point of intersection on the Savannah River; thence along the meander of the Savannah River north to SRS Monument 1.

Three Rivers Landfill

Beginning at a point of intersection between SC Hwy 125 and Dominion Energy 115-KV Right of Way thence moving in a southeasterly direction along the 115-KV Right of way to the intersection of Upper Three Runs Creek. From the intersection of Upper Three Runs Creek thence along the meander of Upper Three Runs Creek to the intersection with Dominion Energy 13.8-KV Right of Way. Traveling in a northernly direction along the 13.8-KV Dominion Energy Right of Way to the intersection with Miller Road thence west along Miller Rd to the Intersection of Dominion Energy 13.8-KV Right of Way and the southern Right of Way of SRS Road 2, thence in a southwesterly direction to beginning point along SC Hwy 125.

Signing Authority

This document of the Department of Energy was signed on May 18, 2023, by R.T. Bartholomew, Director, Office of Safeguards, Security and Emergency Services, Savannah River Operations Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 19, 2023.
Treena V. Garrett,
Federal Register Liaison Officer, U.S. Department of Energy.

[FR Doc. 2023-11044 Filed 5-23-23; 8:45 am]

BILLING CODE 6450-01-P